DEPARTMENT OF AGRICULTURE

Forest Service

Shasta County Resource Advisory Committee (RAC)

AGENCY: Forest Service, USDA.

ACTION: Notice of meeting.

SUMMARY: The Shasta County Resource Advisory Committee (RAC) will meet on April 9, 2003, in Redding, Calif. The purpose of the meeting will be to discuss committee structure and process.

DATES: The meeting will be held on April 9, 2003, from 8 a.m. to noon.

ADDRESSES: The meeting will be held in the Shasta County Office of Education conference room, 1644 Magnolia Ave., Redding, CA.

FOR FURTHER INFORMATION CONTACT: Sharon Heywood, Designated Federal Official, USDA Shasta-Trinity National Forest, (530) 242-2200. E-mail sheywood@fs.fed.us.

SUPPLEMENTARY INFORMATION: The meeting is open to the public. Discussion is limited to Forest Service staff and committee members. However, time will be provided for public input, giving individuals the opportunity to address the committee.

Dated: March 17, 2003.
J. Sharon Heywood,
Forest Supervisor.

[FR Doc. 03-7303 Filed 3-26-03; 8:45 am]

BILLING CODE 3410-11-M